FEDERAL RETIREMENT THRIFT INVESTMENT BOARD

Sunshine Act; Notice of Meeting

Time and Date: 9 a.m. (Eastern Time) July 20, 2009.

Place: 4th Floor Conference Room, 1250 H Street, NW., Washington, DC 20005.

Status: Parts will be open to the public and parts closed to the public.

Matters To Be Considered:

Parts Open to the Public

1. Approval of the minutes of the June 16, 2009 Board member meeting.

2. Thrift Savings Plan activity report by the Executive Director.

a. Participant Activity Report.

b. Quarterly Investment Performance and Policy Review.

c. Legislative Report.

3. Discussion of Pending BGI/BlackRock Merger.

4. Quarterly Vendor Financial Reports.

5. IT Modernization Plan Update.

Parts Closed to the Public

6. Procurement.

7. Proprietary Information.

FOR FURTHER INFORMATION CONTACT: Thomas J. Trabucco, Director, Office of External Affairs, (202) 942-1640.

Dated: July 9, 2009.
Thomas K. Emswiler,
Secretary, Federal Retirement Thrift Investment Board.

[FR Doc. E9-16681 Filed 7-9-09; 4:15 pm]

BILLING CODE 6760-01-P